DEPARTMENT OF HOMELAND SECURITY

Coast Guard

[Docket No. USCG-2023-0823]

National Maritime Security Advisory Committee; December 2023 Virtual Meeting

AGENCY: U.S. Coast Guard, Department of Homeland Security.

ACTION: Notice of Federal advisory committee virtual meeting.

SUMMARY: The National Maritime Security Advisory Committee (Committee) will conduct a virtual meeting to discuss the Committee's final recommendations concerning ways to enhance cyber security information sharing between the U. S. Coast Guard and Marine Transportation System (MTS) stakeholders. The virtual meeting will be open to the public.

DATES: Meeting: The Committee will meet virtually on Tuesday, December 5, 2023, from 1 p.m. until 3 p.m. Eastern Standard Time (EST). Please note this virtual meeting may close early if the Committee has completed its business.

Comments and supporting documentation: To ensure your comments are received by Committee members before the virtual meeting, submit your written comments no later than December 1, 2023.

ADDRESSES: To join the virtual meeting or to request special accommodations, contact the individual listed in the FOR FURTHER INFORMATION CONTACT section no later than 1 p.m. EST on December 4, 2023, to obtain the needed information. The number of virtual lines are limited and will be available on a first-come, first-served basis.

Pre-registration information: Pre-registration is required for attending the virtual meeting. You must request attendance by contacting the individual listed in the FOR FURTHER INFORMATION CONTACT section below. You will receive a response with attendance instructions.

The National Maritime Security Advisory Committee is committed to ensuring all participants have equal access regardless of disability status. If you require reasonable accommodations due to a disability to fully participate, please email Mr. Ryan Owens at ryan.f.owens.uscg.mil or call (202) 302-6565 as soon as possible.

Instructions: You are free to submit comments at any time, including orally at the meeting as time permits, But, if you want Committee members to review your comment before the meeting, please submit your comments no later than December 1, 2023. We are particularly interested in comments regarding the topics in the “Agenda” section below. We encourage you to submit comments through the Federal Decision Making Portal at https://www.regulations.gov. To do so, go to https://www.regulations.gov, type USCG-2023-0823 in the search box and click “Search”. Next, look for this document in the Search Results column, and click on it. Then click on the Comment option. If your material cannot be submitted using https://www.regulations.gov, contact the individual in the FOR FURTHER INFORMATION CONTACT section for alternate instructions. You must include the docket number USCG-2023-0823. Comments received will be posted without alteration at https://www.regulations.gov including any personal information provided. You may wish to review the Privacy and Security Notice found via a link on the homepage https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-302-6565 or via email at ryan.f.owens@uscg.mil.

SUPPLEMENTARY INFORMATION: Notice of this meeting is in compliance with the Federal Advisory Committee Act, (Pub. L. 117-286, 5 U.S.C., ch. 10). The Committee is authorized, by section 601 of the Frank LoBiondo Coast Guard Authorization Act of 2018, Public Law 115-282, 132 Stat. 4192, and is codified in 46 U.S.C. 70112. The Committee operates under the provisions of the Federal Advisory Committee Act and 46 U.S.C. 15109. The National Maritime Security Advisory Committee provides advice, consults with, and makes recommendations to the Secretary of Homeland Security, via the Commandant of the U.S. Coast Guard, on matters relating to national maritime security.

Agenda

Tuesday, December 5, 2023

(1) Call to Order.

(2) Introduction.

(3) Designated Federal Officer Remarks.

(4) Roll call of Committee members and determination of quorum.

(5) Remarks from Committee Leadership.

(6) Presentation and discussion of final recommendations to Task T-2022-5: Working

Group on Cybersecurity Information Sharing.

(7) Public Comment Period.

(8) Adjournment of Meeting.

A copy of all meeting documentation will be available at https://homeport.uscg.mil/NMSAC no later than December 4, 2023. Alternatively, you may contact Mr. Ryan Owens as noted in the FOR FURTHER INFORMATION section above.

There will be a public comment period at the end of meeting. Speakers are requested to limit their comments to 3 minutes. Please note that the public comment period may end before the period allotted, following the last call for comments. Please contact the individual listed in the FOR FURTHER INFORMATION CONTACT section above to register as a speaker.

Dated: October 16, 2023.
Amy M. Beach,
Captain, U.S. Coast Guard, Director of Inspections and Compliance.

[FR Doc. 2023-23085 Filed 10-18-23; 8:45 am]

BILLING CODE 9110-04-P